DEPARTMENT OF LABOR

Employment and Training Administration

[TA-W-58,677]

Avanex Corporation, Fremont, CA; Notice of Termination of Investigation

Pursuant to section 221 of the Trade Act of 1974, as amended, an investigation was initiated on January 19, 2006 in response to a petition filed by a company official on behalf of workers at Avanex Corporation, Fremont, California.

The petitioner has requested that the petition be withdrawn. Consequently, the investigation has been terminated.

Signed at Washington, DC this 30th day of January, 2006.
Elliott S. Kushner,
Certifying Officer, Division of Trade Adjustment Assistance.

[FR Doc. E6-2481 Filed 2-21-06; 8:45 am]

BILLING CODE 4510-30-P